DEPARTMENT OF ENERGY

Federal Energy Regulatory Commission

[Docket No. RP07-20-000]

Texas Eastern Transmission, LP; Notice of Proposed Changes in FERC Gas Tariff

October 18, 2006.

Take notice that on October 17, 2006, Texas Eastern Transmission, LP (Texas Eastern) tendered for filing as part of its FERC Gas Tariff, Seventh Revised Volume No. 1 and First Revised Volume No. 2, revised tariff sheets as listed on Appendix A to the filing, to become effective December 1, 2006. In addition, Texas Eastern submitted its Annual Interruptible Revenue Reconciliation Report.

Texas Eastern states that the revised tariff sheets and the Annual Interruptible Revenue Reconciliation Report contained in the filing are being filed pursuant to Section 15.6, Applicable Shrinkage Adjustment (ASA), and Section 15.8, Periodic Reports, of the General Terms and Conditions of Texas Eastern's FERC Gas Tariff, Seventh Revised Volume No. 1.

Texas Eastern states that the impact of the instant filing on Texas Eastern's system rates for the upcoming winter season equates to an overall decrease of 11.25 cents in the 100% load factor price for typical long-haul service under Rate Schedule FT-1 from the Access Area Zone East Louisiana to Market Zone M3 (ELA-M3) as follows:

| ($/dth)
Rate Impact:
ASA Surcharge | (0.0205)
Fuel Retention Impact:
Winter Season Percentage Decrease—1.23% |
Rate Equivalent at $7.48 per dth | (0.0920)
Overall Reduction | (0.1125)

Texas Eastern states that copies of its filing have been mailed or, if requested, emailed to all affected customers of Texas Eastern and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-18093 Filed 10-27-06; 8:45 am]

BILLING CODE 6717-01-P